ENVIRONMENTAL PROTECTION AGENCY

[EPA-HQ-OPP-2008-0075; FRL-8350-7]

Notice of Withdrawal of 14 Tolerance Petitions

AGENCY: Environmental Protection Agency (EPA).

ACTION: Notice.

SUMMARY: EPA is withdrawing 14 pesticide petitions because the petitioners either voluntarily withdrew their petitions, or the petitions were administratively withdrawn by EPA.

FOR FURTHER INFORMATION CONTACT: Kathleen Martin, Registration Division (7505P), Environmental Protection Agency, 1200 Pennsylvania Ave., NW., Washington, DC 20460-0001; telephone number: (703) 308-2857; fax number: (703) 305-0599; e-mail address: martin.kathleen@epa.gov

.

SUPPLEMENTARY INFORMATION:

I. General Information

A. Does this Action Apply to Me?

Although this action only applies to the registrants in question, it is directed to the public in general. Since various individuals or entities may be interested, the Agency has not attempted to describe all the specific entities that may be interested in this action. If you have any questions regarding this action, please consult the person listed under FOR FURTHER INFORMATION CONTACT.

B. How Can I Get Copies of this Document and Other Related Information?

1. Docket. EPA has established a docket for this action under docket identification (ID) number EPA-HQ-OPP-2008-0075. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

EPA is announcing that 10 petitioners representing 14 petitions, B2E Corporation (7E4907); BASF Corporation (3E4216); Conn and Smith, Inc. (7E4794); Ecolab Inc. (9E5081, 9E5086, 9E6014); Falcon Lab LLC (3E6789); Firmenich Incorporated (6E4759); Hercon Environmental Corporation (7E4918); Huntsman Corporation (8E4992); Keller and Heckman LLP (4E6861, 5E6907, 5E6952); and Synagro Technologies (6E4732), have withdrawn their petitions to amend 40 CFR part 180 to exempt residues of inert ingredients, as provided for under section 408 of the Federal Food, Drug, and Cosmetic Act (FFDCA), 21 U.S.C. 346a.

1. PP 3E4216 (Blankophor BBH). In 2007, the petitioner now BASF Corporation, P.O. Box 13528, Research Triangle Part, NC 27709-3528, requested that PP 3E4216 be withdrawn without prejudice. EPA issued a notice in the Federal Register of May 16, 1997 (62 FR 27025) (FRL-5717-8), which announced American Cyanamid Company, Agricultural Research Division, P.O. Box 400, Princeton, NJ 08543-0400, submission of a pesticide petition (PP 3E4216). This petition requested that EPA amend 40 CFR part 180 exempting the residues of 2,2'-(1,2-ethenediyl)bis[5-[[4-[bis(2-hydroxyethyl)amino]-6-phenylamino]-1,3,5-triazin-2-yl]amino]-benzenesulfonate from the requirement of a tolerance when used as an inert ingredient (adjuvant and UV absorber/protectant) in pesticide formulations applied to growing crops.

2. PP 3E6789 (ammonium nonanoate). Falcon Lab LLC, requested that PP 3E6789 be withdrawn. EPA issued a notice in the Federal Register of March 17, 2004 (69 FR 12670) (FRL-7343-5), which announced Falcon Lab LLC, 1103 Norbee Drive, Wilmington, DE 19803, submission of a pesticide petition (PP 3E6789). This petition requested that EPA amend 40 CFR part 180 by establishing an exemption from the requirement of a tolerance for ammonium nonanoate in or on all raw agricultural commodities.

3. PP 4E6861 (amphoteric surfactant). In 2007, Keller and Heckman LLP, 1001 G St., NW., Suite 500, Washington, DC 20001, on behalf of Tomah3, requested that PP 4E6861 be withdrawn without prejudice. EPA issued a notice in the Federal Register of February 10, 2005 (70 FR 7103) (FRL-7695-9), which announced Tomah3 Products, Inc., 337 Vincent St., P.O. Box 388, Milton, WI 53563-0388, submission of a pesticide petition (PP 4E6861). This petition requested that EPA amend 40 CFR part 180 by establishing an exemption from the requirement of a tolerance for the use of any member of the class of amphoteric surfactant inert ingredients described as [beta-alanine, N-(2-carboxyethyl)-N-[3-polyoxaalkylalkoxy)propyl]-, (mono- or disodium salt) and polyalkoxy, a-[3-[bis(2-carboxyethyl)amino]propyl]-w-alkoxy, (mono- or disodium salt), containing 0 to 20 repeating alkoxy/polylalkoxy units (methoxy-, ethoxy-, propoxy-, butoxy-) and 6 to 21 carbons in an n-alkyloxy-, isoalkyloxy- or branched alkyloxy- chain; also known as alkyl ether amine dicarboxyethyl sodium salts in or on all raw agricultural commodities and food.

4. PP 5E6907 (aluminum-magnesium hydroxy carbonate). In 2007, Keller and Heckman LLP, 1001 G St., NW., Suite 500, Washington, DC 20001, on behalf of Selective Micro Technologies, LLC, requested that PP 5E6907 be withdrawn. EPA issued a notice in the Federal Register of April 20, 2005 (70 FR 2054) (FRL-7703-9), which announced Keller and Heckman LLP’s submission of a pesticide petition (PP 5E6907). This petition requested that EPA amend 40 CFR part 180 by establishing an exemption from the requirement of a tolerance for aluminum-magnesium hydroxy carbonate (CAS No. 85585-93-9) when used in the formulation process for antimicrobial pesticides used on food-contact surfaces and in water that contacts raw agricultural commodities postharvest.

5. PP 5E6952 (ether amines). In 2007, Keller and Heckman LLP, 1001 G St., NW., Suite 500, Washington, DC 20001, on behalf of Tomah3, requested that PP 5E6952 be withdrawn without prejudice. EPA issued a notice in the Federal Register of July 20, 2005 (70 FR 41726) (FRL-7722-2), which announced Tomah3 Products, Inc.’s, 337 Vincent St., P.O. Box 388, Milton, WI 53563-0388, submission of a pesticide petition (PP 5E6952). This petition requested that EPA amend 40 CFR part 180 by establishing an exemption from the requirement of a tolerance for the use of any member of the class of alkoxylated surfactant inert ingredients described as 1-propanamine, N,N-polyoxaalkyl-, [3-(X-alky)oxy]polyoxaalkyl (derivs.); polyalkoxy, [alpha], [alpha]'-(imino)bis[[omega]-hydroxy-, N-[3-[(X-alkyl)oxy]polyoxaalkyl]propyl (derivs.); polyalkoxy, [alpha]-[3-N,N-bis(polyoxaalkyl)]amino]propyl]-[omega]-hydroxy-monoalkyl ethers; or polyalkoxy, [alpha]-[3-[bis(hydroxyalkyl)amino]propyl]-[omega]-hydroxy-, ether with [alpha]-hydro-[omega]-hydroxypolyalkoxy (1:2), monoalkyl ethers containing 0 to 20 internal repeating alkoxy units (methoxy-, ethoxy-, propoxy-, or acetoxy-); 1 to 14 terminal repeating alkoxy units (ethoxy-or propoxy-); and 6 to 22 carbons in an n-alkyloxy-, isoalkyloxy- or branched alkyloxy- chain, in or on the all raw agricultural commodities and food.

6. PP 6E4732 (granulite). In 2007, the petitioner now Synagro Technologies, Inc., 3501 Asiatic Avenue, Baltimore, MD 21226, requested that PP 6E4732 be withdrawn. EPA issued a notice in the Federal Register of April 29, 1998 (63 FR 23438) (FRL-5783-4), which announced Wheelabrator Water Technologies, Inc.’s, 8201 Eastern Boulevard, Baltimore, MD 21224, submission of a pesticide petition (PP 6E4732). This petition requested that EPA amend 40 CFR part 180 by establishing an exemption from the requirement of a tolerance for biosolids in or on the raw agricultural commodity granulite.

7. PP 6E4759 (ethyl methyl phenyl). Firmenich Incorporated has requested that PP 6E4759 be withdrawn. EPA issued a notice in the Federal Register of December 20, 2000 (65 FR 79834) (FRL-6751-9), which announced Firmenich Incorporated’s, P.O. 5880, Princeton, NJ 08543, submission of a pesticide petition (PP 6E4759). This petition requested that EPA amend 40 CFR part 180 by establishing an exemption from the requirement of a tolerance for ethyl methylphenylglycidate when used as an inert ingredient in the pesticide formulations applied to growing crops or to raw agricultural commodities after harvest under 40 CFR 180.1001(c) and applied to animals under 40 CFR 180.1001(e).

8. PP 7E4794 (pentaerythritol stearates). In 2007, Conn and Smith, Inc., requested on behalf of their client Walker Silicones Corporation, that PP 7E4794 be withdrawn without prejudice. EPA issued a notice in the Federal Register of December 17, 1997 (62 FR 66091) (FRL-5760-5), which announced Wacker Silicones Corporation’s, Wacker-Chemie, 3301 Sutton Road, Adrain, MI 49221-9397, submission of a pesticide petition (PP 7E4794). This petition requested that EPA amend 40 CFR part 180 by revising the exemption from the requirement of a tolerance established under 40 CFR 180.1001(c) for the residues of pentaerythritol stearates (CAS. No. 85116-93-4) from 25 parts per million (ppm) to 500 ppm.

9. PP 7E4907 (2-HAP). In 2007, B2E Corporation requested that PP 7E4907 be withdrawn. EPA issued a notice in the Federal Register of October 8, 1997 (62 FR 52552) (FRL-5745-9), which announced B2E Corporation’s, 16 School St., Rye, NY 10580, submission of a pesticide petition (PP 7E4907). This petition requested that EPA amend 40 CFR part 180 by establishing an exemption from the requirement of a tolerance for 2-hydroxyacetophenone (2-HAP) in or on the raw agricultural commodity.

10. PP 7E4918 (TOTM). In 2007, Hercon Environmental Corporation requested that PP 7E4918 be withdrawn. EPA issued a notice in the Federal Register of March 19, 1998 (63 FR 13404) (FRL-5776-6), which announced Hercon Environmental Corporation’s, Aberdeen Road, P.O. Box 467, Emigsville, PA 17318-0467, submission of a pesticide petition (PP 7E4918). This petition requested that EPA amend 40 CFR part 180 by establishing an exemption from the requirement of a tolerance for trioctyl trimellitate (TOTM) as an inert ingredient under 40 CFR 180.1001(c).

11. PP 8E4992 (butylene carbonate). In 2006, Huntsman Corporation requested that PP 8E4992 be withdrawn. EPA issued a notice in the Federal Register of December 30, 1998 (63 FR 71920) (FRL-6050-1), which announced Huntsman Corporation’s, 8600 Gosling Road, The Woodlands, TX 77381, submission of a pesticide petition (PP 8E4992). This petition requested that EPA amend 40 CFR part 180 by establishing an exemption from the requirement of a tolerance for propylene carbonate and butylene carbonate (4-(methyl and ethyl)-(1,3-dioxolan-2-one)) when used in accordance with good agricultural practice as an inert ingredient in pesticide formulations applied to growing crops or to raw agricultural commodities after harvest.

12. PP 9E5081 (HEDP). In 2004, EPA withdrew PP 9E5081 without prejudice, for administrative reasons there was a regulatory change. EPA issued a notice in the Federal Register of September 1, 1999 (64 FR 47791) (FRL-6090-8), which announced Ecolab Inc.’s, 370 N. Wabasha St., St. Paul, MN 55102, submission of a pesticide petition (PP 9E5081). This petition requested that EPA amend 40 CFR part 180 by establishing an exemption from the requirement of a tolerance for hydroxyethylidene-1,1-diphosphonic acid (HEDP) in or on the raw agricultural commodities, in processed commodities, and in or on meat and meat byproducts of cattle, sheep, hogs, goats, horses, and poultry, milk, and dairy products, eggs, seafood and shellfish, and fruit and fruits and vegetables when such residues result from the use of HEDP as a component of a food contact surface sanitizing solution up to 34 ppm for use in food handling establishments. In a July 2004 letter, EPA informed Ecolab that because of a regulatory change (April 28, 2004, 69 FR 23113), HEDP (up to prescribed limits, depending on how HEDP was used) was now covered by an exemption for a tolerance under 40 CFR 180.940.

13. PP 9E5086 (acetic acid). In 2004, EPA withdrew PP 9E5086 without prejudice, for administrative reasons there was a regulatory change. EPA issued a notice in the Federal Register of September 1, 1999 (64 FR 47791) (FRL-6090-8), which announced Ecolab Inc.’s, 370 N. Wabasha St., St. Paul, MN 55102, submission of a pesticide petition (PP 9E5086). This petition requested that EPA amend 40 CFR part 180 by establishing an exemption from the requirement of a tolerance for acetic acid in or on the raw agricultural commodities, in processed commodities, and in or on meat and meat byproducts of cattle, sheep, hogs, goats, horses, and poultry, milk, and dairy products, eggs, seafood and shellfish, and fruit and fruits and vegetables when such residues result from the use of acetic acid as a component of a food contact surface sanitizing solution for use in food handling establishments. In a July 2004 letter, EPA informed Ecolab that because of a regulatory change (April 28, 2004, 69 FR 23113), acetic acid (up to prescribed limits, depending on how acetic acid was used) was now covered by an exemption for a tolerance under 40 CFR 180.940.

14. PP 9E6014 (phosphoric acid). In 2004, EPA withdrew PP 9E6014 without prejudice, for administrative reasons there was a regulatory change. EPA issued a notice in the Federal Register of September 1, 1999 (64 FR 47791) (FRL-6090-8), which announced Ecolab Inc.’s, 370 N. Wabasha St., St. Paul, MN 55102, submission of a pesticide petition (PP 9E6014). This petition requested that EPA amend 40 CFR part 180 by establishing an exemption from the requirement of a tolerance for residues of phosphoric acid in or on raw agricultural commodities, in processed commodities, and in or on meat and meat byproducts of cattle, sheep, hogs, goats, horses, and poultry, milk, and dairy products, eggs, seafood and shellfish, and fruit and fruits and vegetables when such residues result from the use of phosphoric acid as a component of a food contact surface sanitizing solution for use in food handling establishments. In a July 2004 letter, EPA informed Ecolab that because of a regulatory change (April 28, 2004, 69 FR 23113), phosphoric acid was now covered by an exemption for a tolerance under 40 CFR 180.940.

List of Subjects

Environmental protection, Pesticides and pests.

Dated: May 7, 2008.
Deborah McCall,
Acting Director, Registration Division, Office of Pesticide Programs.

[FR Doc. E8-11393 Filed 5-20-08; 8:45 am]

BILLING CODE 6560-50-S